DEPARTMENT OF TRANSPORTATION

Maritime Administration

[Docket No. MARAD-2026-0166]

Request for Comments on the Renewal of a Previously Approved Information Collection: Application for Conveyance of Port Facility Property

AGENCY: Maritime Administration (MARAD), U.S. Department of Transportation (DOT).

ACTION: Notice.

SUMMARY: MARAD invites public comments on its intention to request Office of Management and Budget (OMB) approval to renew an information collection in accordance with the Paperwork Reduction Act of 1995. The proposed collection OMB 2133-0524 (Application for Conveyance of Port Facility Property) is used to determine if an applicant is committed to a port redevelopment plan, the plan is in the best interests of the public, and the property for development will be used in accordance with the terms of port conveyance and applicable statutes and regulations. MARAD is required to publish this notice in the Federal Register to obtain comments from the public and affected agencies.

ADDRESSES: Written comments and recommendations for the proposed information collections should be sent within 30 days of publication of this notice to www.reginfo.gov/public/do/PRAMain. Find this information collection by selecting “Currently under 30-day Review—Open for Public Comments” or by using the search function.

FOR FURTHER INFORMATION CONTACT: Dr. Linden Houston, 202-366-4839, Maritime Administration, Office of Deepwater Ports and Port Conveyance, 1200 New Jersey Avenue SE, (MAR-530), Washington, DC 20590, Email: Linden.Houston@dot.gov.

SUPPLEMENTARY INFORMATION:

Title: Application for Conveyance of Port Facility Property.

OMB Control Number: 2133-0524.

Type of Request: Extension without change of a previously approved information collection.

Abstract: Public Law 103-160, as codified in 40 U.S.C. 554, authorizes the Department of Transportation to convey to public entities surplus Federal property that is needed for the development or operation of a port Facility. This information collection allows MARAD to approve the conveyance of property and administer the port facility conveyance program.

Respondents: Eligible state and local public entities.

Affected Public: State, Local or Tribal Government and Not-for-profit institutions.

Estimated Number of Respondents: 13.

Estimated Number of Responses: 39.

Estimated Hours per Response: 44.

Annual Estimated Total Annual Burden Hours: 573.

Frequency of Response: Annually.

A 60-day Federal Register Notice soliciting comments on this information collection was published on December 11, 2025 (90 FR 57528).

(Authority: The Paperwork Reduction Act of 1995; 44 U.S.C. Chapter 35, as amended; and 49 CFR 1.49.)

By Order of the Maritime Administrator.
T. Mitchell Hudson, Jr.,
Secretary, Maritime Administration.

[FR Doc. 2026-03276 Filed 2-18-26; 8:45 am]

BILLING CODE 4910-81-P